DEPARTMENT OF TRANSPORTATION

Federal Transit Administration

Notice of Limitation on Claims Against Proposed Public Transportation Projects

AGENCY: Federal Transit Administration (FTA), DOT.

ACTION: Notice of limitation on claims.

SUMMARY: This notice announces final environmental actions taken by the Federal Transit Administration (FTA) for the following projects: (1) Middletown Train Station Relocation, Pennsylvania Department of Transportation, Middletown Borough and Lower Swatara Township, PA; (2) Union Station to Oak Cliff Dallas Streetcar, North Central Texas Council of Governments, Dallas, TX; (3) Wilshire Bus Rapid Transit Project, Los Angeles County Metropolitan Transportation Authority, Los Angeles, CA; (4) Cedar Avenue Bus Rapid Transit Station-to-Station Service, Minnesota Valley Transit Authority and Metropolitan Council, Cities of Lakeville, Apple Valley, Eagan, and Bloomington, MN; and (5) Albany Multimodal Transit Center, City of Albany and Georgia Department of Transportation, City of Albany, Dougherty County, GA. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of the FTA actions announced herein for the listed public transportation project will be barred unless the claim is filed on or before March 28, 2012.

FOR FURTHER INFORMATION CONTACT: Carl Bausch, Director, Office of Human and Natural Environment, (202) 366-1626, or Christopher Van Wyk, Attorney-Advisor, Office of Chief Counsel, (202) 366-1733. FTA is located at 1200 New Jersey Avenue, SE., Washington, DC 20590. Office hours are from 9 a.m. to 5:30 p.m., EST, Monday through Friday, except Federal holidays.

SUPPLEMENTARY INFORMATION: Notice is hereby given that FTA has taken final agency actions by issuing certain approvals for the public transportation projects listed below. The actions on these projects, as well as the laws under which such actions were taken, are described in the documentation issued in connection with the project to comply with the National Environmental Policy Act (NEPA) and in other documents in the FTA administrative record for the projects. Interested parties may contact either the project sponsor or the relevant FTA Regional Office for more information on the project. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period of 180 days for challenges of project decisions subject to previous notices published in the Federal Register. The projects and actions that are the subject of this notice are:

1. Project name and location: Middletown Train Station Relocation, Middletown Borough and Lower Swatara Township, PA. Project sponsor: Pennsylvania Department of Transportation. Project description: The project will relocate the Middletown Train Station in from Mill Street to Ann Street/Airport Drive (State Road 441). The project would require acquisition of land from Abbco Real Properties at the proposed Westporte Retail Center (on the AP Green site) for the proposed parking lot at 350 West Main Street (Route 230). The proposed Train Station platforms would be located just west of 350 West Main Street in Middletown. Final agency actions: Section 4(f) determination; Section 106 finding of no adverse effect; regional and project-level air quality conformity; and a Finding of No Significant Impact (FONSI), dated August 2011. Supporting documentation: Environmental Assessment, dated June 2011.

2. Project name and location: Union Station to Oak Cliff Dallas Streetcar, Dallas, TX. Project sponsor: North Central Texas Council of Governments. Project description: The project consists of an approximately 1.6-mile streetcar alignment operating on an at-grade track in a dedicated, bi-directional streetcar lane. The project includes four proposed stops, all located within the roadway right-of-way. To maintain and store the streetcar vehicles, the project will rely on the Dallas Area Rapid Transit's Central Rail Operating Facility. Final agency actions: Section 4(f) de minimis impact determination; Section 106 finding of no adverse effect; regional and project-level air quality conformity; and a Finding of No Significant Impact (FONSI), dated July 2011. Supporting documentation: Environmental Assessment, dated May 2011.

3. Project name and location: Wilshire Bus Rapid Transit Project, Los Angeles, CA. Project sponsor: Los Angeles County Metropolitan Transportation Authority. Project description: The project involves construction of 9.7 miles of dedicated bus lanes from Valencia Street to San Vicente Boulevard (6.1 miles), the western border of the City of Beverly Hills to Sepulveda Boulevard (2.3 miles), and Bonsall Avenue to Centinela Avenue (1.3 miles). It also includes 3.0 miles of curb lane reconstruction/resurfacing between Western Avenue and Fairfax Avenue and removal of jut-outs and realignment of curbs for dedicated bus lanes between Comstock Avenue and Malcolm Avenue (1.0 mile). Wilshire Boulevard would be widened between Bonsall Avenue and Barrington Avenue to accommodate dedicated bus lanes (0.7 mile). It would also lengthen the eastbound left-turn pocket at Sepulveda Boulevard by approximately 470 feet. Final agency action: no use of Section 4(f) resources; Section 106 finding of no adverse effect; project-level air quality conformity; and Finding of No Significant Impact (FONSI), dated August 2011. Supporting documentation: Revised Final Environmental Assessment, dated April 2011.

4. Project name and location: Cedar Avenue Bus Rapid Transit (BRT) Station-to-Station Service, Cities of Lakeville, Apple Valley, Eagan, and Bloomington, MN. Project sponsor: Minnesota Valley Transit Authority, in cooperation with the Metropolitan Council. Project description: The project consists of the procurement of branded BRT vehicles for new station-to-station service along the Cedar Avenue Corridor between the 28th Avenue Transit Center in Bloomington, Hennepin County and 215th Street in Lakeville, Dakota County. This project also includes the construction of walk-up transit stations at 140th and 147th Street, and the use of five existing transit stations located at the 28th Avenue Transit Center in Bloomington, Mall of America Transit Center in Bloomington, Cedar Avenue Transit Center in Eagan, Cedar Avenue Transit Center in Apple Valley, and the Lakeville Cedar Park-and-Ride Transit Center in Lakeville. Final agency action: no use of Section 4(f) resources; Section 106 finding of no adverse effect; project-level air quality conformity; and Finding of No Significant Impact (FONSI), dated August 2011. Supporting documentation: Environmental Assessment, dated August 2011.

5. Project name and location: Albany Multimodal Transit Center, City of Albany, Dougherty County, GA. Project sponsor: City of Albany and Georgia Department of Transportation. Project description: The project involves the site preparation and construction of a multimodal transportation center, relocating the existing Albany Transit System (ATS) bus transfer operations from the existing interim transfer facility at the Greyhound Terminal approximately 1,500 feet to the northeast to the proposed multimodal transportation center located between Flint Avenue and Roosevelt Avenue. In addition to its functionality as the central transfer station for the ATS buses, the facility would also house and support dispatch facilities and would accommodate other potential uses, such as intercity bus, rural transit, future intercity rail support services, taxis, private auto services, and typical transit oriented and transit-related commercial uses. Final agency action: no use of Section 4(f) resources; a Section 106 Memorandum of Agreement; project-level air quality conformity; and Finding of No Significant Impact (FONSI), dated September 2011. Supporting documentation: Environmental Assessment, dated January 2011.

Issued on: September 27, 2011.
Lucy Garliauskas,
Associate Administrator for Planning and Environment, Washington, DC.

[FR Doc. 2011-25266 Filed 9-29-11; 8:45 am]

BILLING CODE P